FEDERAL COMMUNICATIONS COMMISSION

Notice of Public Information Collection(s) being Reviewed by the Federal Communications Commission, Comments Requested

AGENCY: Federal Communications Commission.

ACTION: Notice; request for comments.

SUMMARY: As part of its continuing effort to reduce paperwork burden and as required by the Paperwork Reduction Act (PRA) of 1995 (44 U.S.C. 3501—3520), the Federal Communications Commission (FCC) invites the general public and other Federal agencies to take this opportunity to comment on the following information collection(s). Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and further ways to reduce the information burden for small business concerns with fewer than 25 employees.

The FCC may not conduct or sponsor a collection of information unless it displays a currently valid OMB Control Number. No person shall be subject to any penalty for failing to comply with a collection of information subject to the Paperwork Reduction Act (PRA) that does not display a valid Control Number.

DATES: Written Paperwork Reduction Act (PRA) comments should be submitted on or before April 1, 2014. If you anticipate that you will be submitting comments, but find it difficult to do so within the period of time allowed by this notice, you should advise the FCC contact listed below as soon as possible.

ADDRESSES: Submit your PRA comments to Leslie F. Smith, Federal Communications Commission (FCC), via the Internet at Leslie.Smith@fcc.gov. To submit your PRA comments by email, send them to PRA@fcc.gov.

FOR FURTHER INFORMATION CONTACT: For additional information, contact Leslie F. Smith at (202) 418-0217, or via the Internet at PRA@fcc.gov.

SUPPLEMENTARY INFORMATION:

OMB Control Number: 3060-0816.

Title: Local Telephone Competition and Broadband Reporting, FCC Form 477.

Form Number: FCC Form 477.

Type of Review: Revision of a currently approved collection.

Respondents: Business or other for-profit entities; not-for-profit institutions; and state, local or tribal governments.

Number of Respondents and Responses: 2,002 respondents; 4,004 responses.

Estimated Time per Response: 327 hours.

Frequency of Response: Semi-annual reporting requirement.

Obligation to Respond: Mandatory. Statutory authority for this information collection is contained in 47 U.S.C. 4(i), 201, 218-220, 251-252, 271, 303(r), 332, and 403 of the Communications Act of 1934, as amended and section 706 of the Telecommunications Act of 1996, as amended, codified in section 1302 of the Broadband Data Improvement Act, 47 U.S.C. 1302.

Total Annual Burden: 1,549,548 hours.

Total Annual Cost: $68,335,067.

Privacy Impact Assessment (PIA): No impact(s).

Nature and Extent of Confidentiality: The Commission will continue to allow respondents to certify on the submission interface that some subscribership data contained in that submission are privileged or confidential commercial or financial information and that disclosure of such information would likely cause substantial harm to the competitive position of the entity making the submission. If the Commission receives a request for, or proposes to disclose such information, the respondent would be required to show, pursuant to Commission rules for withholding from public inspection information submitted to the Commission, that the information in question is entitled to confidential treatment. We will retain our current policies and procedures regarding the protection of submitted FCC Form 477 data subject to confidential treatment, including the use of only non-company specific aggregates of subscribership data in our published reports. Most of the broadband deployment data to be collected on Form 477 as a result of modifications will be made publicly available. NTIA currently publishes similar data on the National Broadband Map Web site at www.broadbandmap.gov. The Commission will coordinate with NTIA to continue the publication of the National Broadband Map using the data to be collected through modifications to Form 477. The one exception is that mobile broadband and voice providers can request confidential treatment of their deployment data by spectrum band.

Needs and Uses: FCC Form 477 gathers information on the development of local telephone competition, including telephone services and interconnected Voice over Internet Protocol (VoIP) services, and on the deployment of broadband Internet access services. FCC staff use the information to advise the Commission about the efficacy of its rules and policies adopted to implement the Telecommunications Act of 1996. The data are necessary to evaluate the status of local telecommunications competition and broadband deployment. The Commission uses the data to prepare reports that help inform consumers and policy makers on the deployment and adoption of broadband services and on developments related to competition in the local telephone service market. The Commission also uses the data to support its analyses in a variety of rulemaking proceedings under the Communications Act, including those related to fulfilling its universal service mandate.

Federal Communications Commission.
Gloria J. Miles,
Federal Register Liaison, Office of the Secretary, Office of Managing Director.

[FR Doc. 2014-02006 Filed 1-30-14; 8:45 am]

BILLING CODE 6712-01-P